NUCLEAR REGULATORY COMMISSION

[NRC-2013-0203]

Ultimate Heat Sink for Nuclear Power Plants

AGENCY: Nuclear Regulatory Commission.

ACTION: Regulatory Guide Issuance.

SUMMARY: The U.S. Nuclear Regulatory Commission (NRC) is issuing Revision 3 to Regulatory Guide (RG) 1.27, “Ultimate Heat Sink for Nuclear Power Plants.” This RG describes methods and procedures acceptable to the NRC staff that nuclear power plant facility licensees and applicants may use to implement general design criteria (GDC) that are applicable to the ultimate heat sink (UHS) features of plant systems.

DATES: Revision 3 to RG 1.27 is available on November 23, 2015.

ADDRESSES: Please refer to Docket ID NRC-2013-0203 when contacting the NRC about the availability of information regarding this document. You may obtain pubically-available information related to this document using the following methods:

• Federal Rulemaking Web site: Go to http://www.regulations.gov and search for Docket ID NRC-2013-0203. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 3 to Regulatory Guide 1.27 and the regulatory analysis are available in ADAMS under Accession Nos. ML14107A411 and ML14107A409, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Bruce Lin, telephone: 301-415-2446, email: Bruce.Lin@nrc.gov; and Steve Burton, telephone: 301-415-7000, email: Stephen.Burton@nrc.gov. Both are staff of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 3 to RG 1.27 was issued with a temporary identification of Draft Regulatory Guide, DG-1275. Regulatory Guide 1.27 addresses revisions in regulations and lessons learned from operating experience since the guide was last revised in January 1976, including system design considerations, natural phenomena and site hazards design criteria, and periodic inspection and maintenance considerations. This revised guide contains information applicable to both current operating plants and new plants being licensed under both parts 50 and 52 of title 10 of the Code of Federal Regulations (10 CFR).

II. Additional Information

The DG-1275 was published in the Federal Register on September 9, 2013 (78 FR 55117), for a 60-day public comment period. The public comment period closed on November 8, 2013. Public comments on DG-1275 and the NRC staff responses to the public comments are available in ADAMS under Accession No. ML14107A410.

III. Congressional Review Act

This regulatory guide is a rule as defined in the Congressional Review Act (5 U.S.C. 801-808). However, the Office of Management and Budget has not found it to be a major rule as defined in the Congressional Review Act.

IV. Backfitting and Issue Finality

Regulatory Guide 1.27 provides guidance on one possible means for meeting the NRC's regulatory requirements of the GDC in appendix A, “General Design Criteria for Nuclear Power Plants,” to 10 CFR part 50, which are applicable to the ultimate heat sink features of nuclear power plant systems. This regulatory guide does not constitute backfitting as defined in 10 CFR 50.109 (the Backfit Rule) and is not otherwise inconsistent with the issue finality provisions in 10 CFR part 52, “Licenses, Certifications and Approvals for Nuclear Power Plants.” The NRC's position is based upon the following considerations.

Regulatory Guide 1.27 may be applied to current applications for operating licenses, combined licenses, early site permits, and certified design rules docketed by the NRC as of the date of issuance of the final regulatory guide, as well as future applications submitted after the issuance of the regulatory guide. Such action would not constitute backfitting as defined in 10 CFR 50.109(a)(1) or be otherwise inconsistent with the applicable issue finality provision in 10 CFR part 52. Neither the Backfit Rule nor the issue finality provisions under 10 CFR part 52, with certain exclusions discussed below, were intended to apply to every NRC action which substantially changes the expectations of current and future applicants.

The exceptions to the general principle are applicable whenever a combined license applicant references a 10 CFR part 52 license (e.g., an early site permit) or NRC regulatory approval (e.g., a design certification rule) with specified issue finality provisions. The NRC does not, at this time, intend to impose the positions represented in RG 1.27 on combined license applicants in a manner that is inconsistent with any issue finality provisions. If, in the future, the NRC seeks to impose a position in RG 1.27 in a manner which does not provide issue finality as described in the applicable issue finality provision, then the NRC must address the criteria for avoiding issue finality as described in the applicable issue finality provision.

Existing 10 CFR part 50 construction permit holders and 10 CFR part 50 operating license holders would not be required to comply with the positions set forth in RG 1.27, unless the construction permit or operating license holder makes a voluntary change to its licensing basis with respect to the UHS features of plant systems and the NRC determines that the safety review must include consideration of the UHS features of plant systems.

Existing design certification rules would not be required to be amended to comply with the positions set forth in RG 1.27, unless the NRC addresses the issue finality provisions in 10 CFR 52.63(a).

Existing combined license holders (referencing the AP1000 design certification rule in 10 CFR part 52, appendix D), would not be required to comply with the positions set forth in RG 1.27, unless the NRC addresses the issue finality provisions in 10 CFR 52.63(a).

Further information on the NRC staff's use of the regulatory guidance is contained in Section D., “Implementation,” of RG 1.27.

Dated at Rockville, Maryland, this 17th day of November 2015.
For the Nuclear Regulatory Commission.
Thomas H. Boyce,
Chief, Regulatory Guidance and Generic Issues Branch, Division of Engineering, Office of Nuclear Regulatory Research.

[FR Doc. 2015-29691 Filed 11-20-15; 8:45 am]

BILLING CODE 7590-01-P